DEPARTMENT OF HEALTH AND HUMAN SERVICES

Indian Health Service

Request for Public Comment: 30 Day Proposed Information Collection: Environmental Health Assessment of Tribal Child Care Centers in the Pacific Northwest

AGENCY: Indian Health Service, HHS.

ACTION: Notice and request for comments.

SUMMARY: In compliance with the Paperwork Reduction Act of 1995, the Indian Health Service (IHS) is submitting to the Office of Management and Budget (OMB) a request for an extension of a previously approved collection of information titled, “Indian Health Service Environmental Health Assessment of Tribal Child Care Centers in the Pacific Northwest” (OMB Control Number 0917-NEW), which expired September 23, 2016. This proposed information collection project was recently published in the Federal Register (81 FR 48437) on July 25, 2016, and allowed 60 days for public comment. The IHS received no comments regarding this collection. The purpose of this notice is to allow 30 days for public comment to be submitted directly to OMB.

A copy of the supporting statement is available at www.regulations.gov (see Docket ID IHS-2015-0003).

DATES: February 9, 2017. Your comments regarding this information collection are best assured of having full effect if received within 30 days of the date of this publication.

ADDRESSES: Send your written comments, requests for more information on the collection, or requests to obtain a copy of the data collection instrument and instructions to Ms. Celeste Davis by one of the following methods:

• Mail: Ms. Holly Thompson Duffy, Environmental Protection Specialist, Division of Environmental Health Services/Emergency Management Coordinator, U.S. DHHS/Indian Health Service, 1414 NW Northrup St., 800, Portland, OR 97209.

• Phone: 509-455-3539.

• Email: Holly.Thompsonduffy@ihs.gov.

• Fax: 503-414-7776.

SUPPLEMENTARY INFORMATION: The Indian Health Service is submitting the proposed information collection to OMB for review, as required by section 3507(a)(1)(D) of the Paperwork Reduction Act of 1995. This notice is soliciting comments from members of the public and affected agencies as required by 44 U.S.C. 3506(c)(2)(A) concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques of other forms of information technology, e.g., permitting electronic submission of responses.

Title of Proposal: Environmental Health Assessment of Tribal Child Care Centers in the Pacific Northwest.

OMB Control Number: To be assigned.

Need for the Information and Proposed Use: The Portland Area Indian Health Service (IHS) and Environmental Protection Agency (EPA) seek to conduct an environmental health assessment of Tribal child care centers in Portland Area Indian Country (in the states of Washington, Oregon, and Idaho). There is a significant data gap regarding the levels of lead, allergens, pesticides, and polychlorinated biphenyls (PCBs) in child care centers within Portland Area Indian Country. This research will help us understand the potential for exposure to these chemicals among children who attend. For example, Eliminating Childhood Lead Poisoning: A Federal Strategy Targeting Lead Paint Hazards, produced by the President's Task Force on Environmental Health Risks and Safety Risks to Children, discusses the need for more data on lead levels in licensed child care facilities. Also, data is limited on the interrelationships between exposure factors, building factors, and community factors and their combined impact on children's exposures from chemical agents in child care environments. Non-chemical stressors, such as noise, number of windows in the child care center, tree cover, and shade cover in play area, will be included in data collection. Community factors, such as mapping the locations of the child care facilities, roads, and agricultural operations, will be included in data collection in order to evaluate the relationship between indoor air quality and the outdoor environment.

IHS and EPA will also incorporate follow-up outreach and education with facilities to explain results and suggest corrective actions to remediate or reduce exposures from lead, allergens, pesticides, and PCBs that are detected in the facilities. The principal purpose of this project is to provide valuable data about the levels of lead, allergens, pesticides, and PCBs in child care facilities located in Portland Area Indian Country. This project will help prioritize services and funding based on known needs and risks in order to help facilities obtain needed services. This data may help Tribes secure funding from the Federal Head Start program and other funding sources for repairs, rehabilitations or other corrective action. This study may also provide Federal Head Start and Tribal programs with data to improve standards and initiate policy changes, if necessary. IHS will also provide indoor air quality kits to the facilities and environmental health training to center staff to provide methods and practices for preventing and controlling indoor environmental hazards. This project may be replicated in other IHS areas.

Agency Form Numbers: None.

Members of Affected Public: Operators of Tribal child care facilities and pesticide applicators who work in child care facilities.

Status of the Proposed Information Collection: New request.

The table below provides: Types of data collection instruments, Estimated number of respondents, Number of responses per respondent, Annual number of responses, Average burden hour per response, and Total annual burden hours.

Data collection instrument | Type of respondent | Number of respondents | Number responses per respondent | Average burden per response (hours) | Estimated burden hours
Child Care Center Director Questionnaire | Child Care Center Director | 45 | 1 | 1.5 | 67.5
Pesticide Applicator Questionnaire | Pesticide Applicator | 30 | 1 | 0.5 | 15
Total |  | 75 |  |  | 82.5

There are no direct costs to respondents other than time to voluntarily complete the forms and submit them for consideration.

Dated: December 14, 2016.
Mary Smith,
Principal Deputy Director, Indian Health Service.

[FR Doc. 2016-31799 Filed 1-9-17; 8:45 am]

BILLING CODE 4165-16-P